DEPARTMENT OF HOMELAND SECURITY

Federal Emergency Management Agency

[Docket ID FEMA-2016-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 2, 2016.
Roy E. Wright,
Deputy Associate Administrator for Insurance and Mitigation, Department of Homeland Security, Federal Emergency Management Agency.

State and county | Location and case No. | Chief executive officer of community | Community map repository | Effective date of modification | Community No.
Arkansas:
Crawford (FEMA Docket No.: B-1605) | City of Alma (14-06-2666P) | The Honorable Keith Greene, Mayor, City of Alma, 804 Fayetteville Avenue, Alma, AR 72921 | Water Department, 804 Fayetteville Avenue, Alma, AR 72921 | May 13, 2016 | 050236
Crawford (FEMA Docket No.: B-1605) | Unincorporated areas of Crawford County (14-06-2666P) | The Honorable John Hall, Crawford County Judge, 300 Main Street, Room 4, Van Buren, AR 72956 | Crawford County Department of Emergency Management, 1820 Chestnut Street, Van Buren, AR 72956 | May 13, 2016 | 050428
Colorado:
Archuleta (FEMA Docket No.: B-1607) | Unincorporated areas of Archuleta County (14-08-0969P) | The Honorable Michael Whiting, Chairman, Archuleta County Board of Commissioners, P.O. Box 1507, Pagosa Springs, CO 81147 | Archuleta County Development Services Department, P.O. Box 1507, Pagosa Springs, CO 81147 | May 20, 2016 | 080273
Denver (FEMA Docket No.: B-1607) | City and County of Denver (15-08-1275P) | The Honorable Michael B. Hancock, Mayor, City and County of Denver, 1437 Bannock Street, Suite 350, Denver, CO 80202 | Department of Public Works, 201 West Colfax Avenue, Denver, CO 80202 | May 19, 2016 | 080046
Weld (FEMA Docket No.: B-1605) | Unincorporated areas of Weld County (15-08-1446P) | The Honorable Barbara Kirkmeyer, Chair, Weld County Board of Commissioners, P.O. Box 758, Greeley, CO 80632 | Weld County Planning and Zoning Department, 1555 North 17th Avenue, Greeley, CO 80631 | May 13, 2016 | 080266
Delaware: New Castle (FEMA Docket No.: B-1605) | Unincorporated areas of New Castle County (15-03-2443P) | The Honorable Thomas P. Gordon, New Castle County Executive, 87 Reads Way, New Castle, DE 19720 | New Castle County Land Use Department, 87 Reads Way, New Castle, DE 19720 | May 11, 2016 | 105085
Florida:
Lee (FEMA Docket No.: B-1605) | Unincorporated areas of Lee County (16-04-0292P) | The Honorable Frank Mann, Chairman, Lee County Board of Commissioners, District 5, P.O. Box 398, Fort Myers, FL 33902 | Lee County Community Development Department, 1500 Monroe Street, Fort Myers, FL 33901 | May 11, 2016 | 125124
Pinellas (FEMA Docket No.: B-1607) | City of St. Petersburg (16-04-0334P) | The Honorable Rick Kriseman, Mayor, City of St. Petersburg, 175 5th Street North, St. Petersburg, FL 33701 | Municipal Services Center, Permit Division, 1 4th Street North, St. Petersburg, FL 33701 | May 25, 2016 | 125148
Sumter (FEMA Docket No.: B-1607) | City of Fruitland Park (15-04-3835P) | The Honorable Chris Bell, Mayor, City of Fruitland Park, 506 West Berckman Street, Fruitland Park, FL 34731 | Building Department, 506 West Berckman Street, Fruitland Park, FL 34731 | May 20, 2016 | 120387
Sumter (FEMA Docket No.: B-1607) | Unincorporated areas of Sumter County (15-04-3835P) | The Honorable Garry Breeden, Chairman, Sumter County Board of Commissioners, 7375 Powell Road, Wildwood, FL 34785 | Sumter County Development Department, 7375 Powell Road, Wildwood, FL 34785 | May 20, 2016 | 120296
Georgia:
Lee (FEMA Docket No.: B-1607) | City of Smithville (15-04-3746P) | The Honorable Jack Smith, Mayor, City of Smithville, P.O. Box 180, Smithville, GA 31787 | City Hall, 116 South Main Street, Smithville, GA 31787 | May 19, 2016 | 130349
Lee (FEMA Docket No.: B-1607) | Unincorporated areas of Lee County (15-04-3746P) | The Honorable Rick Muggridge, Chairman, Lee County Board of Commissioners, 110 Starksville Avenue North, Leesburg, GA 31763 | Lee County Administration Building, 110 Starksville Avenue North, Leesburg, GA 31763 | May 19, 2016 | 130122
Montana: Lewis and Clark (FEMA Docket No.: B-1607) | Unincorporated areas of Lewis and Clark County (15-08-1239P) | The Honorable Andy Hunthausen, Chairman, Lewis and Clark County Board of Commissioners, 316 North Park Avenue, Helena, MT 59623 | Clark County Law Enforcement Center, 221 Breckenridge Avenue, Helena, MT 59601 | May 18, 2016 | 300038
Nevada: Clark (FEMA Docket No.: B-1605) | City of Henderson (15-09-3020P) | The Honorable Andy Hafen, Mayor, City of Henderson, P.O. Box 95050, MSC 142, Henderson, NV 89009 | Department of Public Works, Parks and Recreation, P.O. Box 95050, MSC 131, Henderson, NV 89009 | Apr. 8, 2016 | 320005
Pennsylvania: Dauphin (FEMA Docket No.: B-1607) | Township of Lower Paxton (14-03-3302P) | The Honorable William B. Hawk, Chairman, Township of Lower Paxton Board of Supervisors, 425 Prince Street, Harrisburg, PA 17109 | Township Government Office, 425 Prince Street, Harrisburg, PA 17109 | May 20, 2016 | 420384
South Carolina:
Charleston (FEMA Docket No.: B-1605) | Town of Mount Pleasant (15-04-A378P) | The Honorable Linda Page, Mayor, Town of Mount Pleasant, 100 Ann Edwards Lane, Mount Pleasant, SC 29464 | Planning and Development Department, 100 Ann Edwards Lane, Mount Pleasant, SC 29464 | May 11, 2016 | 455417
Charleston (FEMA Docket No.: B-1605) | Unincorporated areas of Charleston County (15-04-A378P) | The Honorable J. Elliott Summey, Chairman, Charleston County Board of Commissioners, 4045 Bridgeview Drive, Suite B254, North Charleston, SC 29405 | Charleston County Building Inspection Services Department, 4045 Bridgeview Drive, Suite A311, North Charleston, SC 29405 | May 11, 2016 | 455413
Tennessee: Williamson (FEMA Docket No.: B-1607) | City of Brentwood (15-04-7313P) | The Honorable Regina Smithson, Mayor, City of Brentwood, 5211 Maryland Way, Brentwood, TN 37027 | City Hall, 5211 Maryland Way, Brentwood, TN 37027 | May 19, 2016 | 470205
Texas:
Bexar (FEMA Docket No.: B-1607) | City of San Antonio (15-06-2857P) | The Honorable Ivy R. Taylor, Mayor, City of San Antonio, P.O. Box 839966, San Antonio, TX 78283 | Transportation and Capital Improvements Department, Storm Water Division, 1901 South Alamo Street, 2nd Floor, San Antonio, TX 78205 | May 18, 2016 | 480045
Collin (FEMA Docket No.: B-1607) | City of Murphy (15-06-3827P) | The Honorable Eric Barna, Mayor, City of Murphy, 206 North Murphy Road, Murphy, TX 75094 | City Hall, 206 North Murphy Road, Murphy, TX 75094 | May 16, 2016 | 480137
Collin (FEMA Docket No.: B-1607) | City of Wylie (15-06-3379P) | The Honorable Eric Hogue, Mayor, City of Wylie, 300 Country Club Road, Building 100, Wylie, TX 75098 | City Hall, 300 Country Club Road, Wylie, TX 75098 | May 26, 2016 | 480759
Cooke (FEMA Docket No.: B-1605) | City of Gainesville (14-06-4582P) | The Honorable Jim Goldsworthy, Mayor, City of Gainesville, 200 South Rusk Street, Gainesville, TX 76240 | Community Services Department, 104 West Hird Street, Gainesville, TX 76240 | Apr. 27, 2016 | 480154
Dallas (FEMA Docket No.: B-1607) | City of Dallas (15-06-3297P) | The Honorable Mike Rawlings, Mayor, City of Dallas, 1500 Marilla Street, Room 5EN, Dallas, TX 75201 | Trinity Watershed Management Department, 320 East Jefferson Boulevard, Room 307, Dallas, TX 75203 | May 25, 2016 | 480171
Dallas (FEMA Docket No.: B-1607) | City of DeSoto (15-06-2944P) | The Honorable Carl Sherman, Mayor, City of DeSoto, 211 East Pleasant Run Road, DeSoto, TX 75115 | Engineering Department, 211 East Pleasant Run Road, DeSoto, TX 75115 | May 12, 2016 | 480172
Dallas (FEMA Docket No.: B-1605) | City of Irving (15-06-1807P) | The Honorable Beth Van Duyne, Mayor, City of Irving, 825 West Irving Boulevard, Irving, TX 75060 | Capital Improvement Program Department, Engineering Section, 825 West Irving Boulevard, Irving, TX 75060 | May 16, 2016 | 480180
Harris (FEMA Docket No.: B-1607) | City of Houston (15-06-0693P) | The Honorable Sylvester Turner, Mayor, City of Houston, P.O. Box 1562, Houston, TX 77251 | Public Works and Engineering Department, 1002 Washington Avenue, Houston, TX 77002 | May 18, 2016 | 480296
Harris (FEMA Docket No.: B-1607) | Unincorporated areas of Harris County (15-06-0693P) | The Honorable Edward M. Emmett, Harris County Judge, 1001 Preston Street, Suite 911, Houston, TX 77002 | Harris County Permit Office, 10555 Northwest Freeway, Suite 120, Houston, TX 77092 | May 18, 2016 | 480287
Harris (FEMA Docket No.: B-1607) | Unincorporated areas of Harris County (16-06-0003P) | The Honorable Edward M. Emmett, Harris County Judge, 1001 Preston Street, Suite 911, Houston, TX 77002 | Harris County Permit Office, 10555 Northwest Freeway, Suite 120, Houston, TX 77092 | May 19, 2016 | 480287
Hays (FEMA Docket No.: B-1607) | City of San Marcos (15-06-2311P) | The Honorable Daniel Guerrero, Mayor, City of San Marcos, 630 East Hopkins Street, San Marcos, TX 78666 | Engineering Department, 630 East Hopkins Street, San Marcos, TX 78666 | May 18, 2016 | 480505
Hays (FEMA Docket No.: B-1607) | Unincorporated areas of Hays County (15-06-2311P) | The Honorable Bert Cobb, M.D., Hays County Judge, 111 East San Antonio Street, Suite 300, San Marcos, TX 78666 | Hays County Environmental Health Department, 1251 Civic Center Loop, San Marcos, TX 78666 | May 18, 2016 | 480321
Kaufman (FEMA Docket No.: B-1605) | City of Terrell (15-06-2277P) | The Honorable Hal Richards, Mayor, City of Terrell, 201 East Nash Street, Terrell, TX 75160 | Engineering Department, 201 East Nash Street, Terrell, TX 75160 | Apr. 1, 2016 | 480416
Kaufman (FEMA Docket No.: B-1607) | City of Terrell (15-06-2731P) | The Honorable Hal Richards, Mayor, City of Terrell, 201 East Nash Street, Terrell, TX 75160 | Engineering Department, 201 East Nash Street, Terrell, TX 75160 | May 16, 2016 | 480416
Kaufman (FEMA Docket No.: B-1605) | Unincorporated areas of Kaufman County (15-06-2277P) | Kaufman County Public Works Department, 3003 South Washington, Kaufman, TX 75142 | Kaufman County Public Works Department, 3003 South Washington, Kaufman, TX 75142 | Apr. 1, 2016 | 480411
Montgomery (FEMA Docket No.: B-1605) | Unincorporated areas of Montgomery County (15-06-2891P) | The Honorable Craig B. Doyal, Montgomery County Judge, 501 North Thompson, Suite 401, Conroe, TX 77301 | Montgomery County Permitting Department, 501 North Thompson, Suite 100, Conroe, TX 77301 | May 13, 2016 | 480483
Travis (FEMA Docket No.: B-1611) | Unincorporated areas of Travis County (15-06-4029P) | The Honorable Sarah Eckhardt, Travis County Judge, P.O. Box 1748, Austin, TX 78767 | Travis County Administration Building, 700 Lavaca Street, 5th Floor, Austin, TX 78767 | May 26, 2016 | 481026
Virginia:
Albemarle (FEMA Docket No.: B-1611) | Unincorporated areas of Albemarle County (15-03-2153P) | The Honorable Thomas Foley, Albemarle County Executive, 401 McIntire Road, Charlottesville, VA 22902 | Albemarle County Department of Community Development, 401 McIntire Road, Charlottesville, VA 22902 | May 23, 2016 | 510006
Shenandoah (FEMA Docket No.: B-1611) | Unincorporated areas of Shenandoah County (15-03-2087P) | The Honorable Conrad A. Helsley, Chairman, Shenandoah County Board of Supervisors, 600 North Main Street, Suite 102, Woodstock, VA 22664 | Shenandoah County GIS Department, 600 North Main Street, Suite 102, Woodstock, VA 22664 | May 23, 2016 | 510147
Wyoming: Teton (FEMA Docket No.: B-1607) | Unincorporated areas of Teton County (16-08-0063P) | The Honorable Barbara Allen, Chair, Teton County Board of Commissioners, P.O. Box 3594, Jackson, WY 83001 | Teton County Engineering Department, 320 South King Street, Jackson, WY 83001 | May 26, 2016 | 560094

[FR Doc. 2016-18976 Filed 8-9-16; 8:45 am]

BILLING CODE 9110-12-P